DEPARTMENT OF DEFENSE

Department of the Army; Corps of Engineers

Intent To Prepare an Integrated Feasibility Report and Draft Environmental Impact Statement for the Southwest Florida Feasibility Study/Watershed Plan, Lee, Collier, Charlotte, Hendry, Glades, and Monroe Counties, FL

AGENCY: Department of the Army, U.S. Army Corps of Engineers, DOD.

ACTION: Notice of intent.

SUMMARY: The U.S. Army Corps of Engineers (Corps), Jacksonville District, intends to prepare an integrated Feasibility Report/Draft Environmental Impact Statement (FR/DEIS) for the Southwest Florida Feasibility Study/Watershed Plan. The study is a cooperative effort between the Corps and the South Florida Water Management District (SFWMD), which is also a cooperating agency for this DEIS. The goal of the Southwest Florida Feasibility Study is to produce a regional restoration plan that addresses water resources issues within all watersheds in southwest Florida. It is intended that this plan will meet many of the ecological and hydrological restoration needs of southwest Florida. The problems which will be addressed in this study include loss of natural ecosystems and landscape connectivity/degradation of wildlife habitat, altered, unnatural freshwater flows to wetlands and estuaries (altered surface water hydrology), and water quality degradation in surface waters.

ADDRESSES: U.S. Army Corps of Engineers, Planning Division, Environmental Branch, P.O. Box 4970, Jacksonville, FL 32232-0019.

FOR FURTHER INFORMATION CONTACT: Ms. Angela Dunn, by telephone at 904-232-2108, or e-mail at angela.e.dunn@usace.army.mil.

SUPPLEMENTARY INFORMATION: a. Authorization: The Southwest Florida Feasibility Study (SWFFS), along with the Central and South Florida Project Comprehensive Review study (Restudy), is authorized by Section 309(l) of the Water Resources Development Act of 1992 (Pub. L. 102-580) and is also authorized by two resolutions of the Committee on Transportation and Infrastructure, United States House of Representatives, dated September 24, 1992. The Restudy proposed several new feasibility studies, which included the SWFFS, to allow a more thorough investigation into subjects that were considered related to but beyond the scope of the Restudy.

b. Study Area: The study area covers approximately 4,300 square miles. It encompasses all of Lee County and portions of Collier, Charlotte, Hendry, Glades, and Monroe Counties.

c. Project Scope: The scope includes conducting a watershed assessment of the study area and developing a watershed plan for stakeholder utilization, additional landscape connectivity for endangered species, and maintenance of natural hydrology. The assessment will investigate the southwest Florida region and its hydrology and natural landscape in greater detail than was developed in the Restudy. The evaluation of the alternatives and selection of a recommended plan will be documented in the FR/EIS. The alternative plans will be reviewed under provisions of appropriate laws and regulations, including the Endangered Species Act, Fish and Wildlife Coordination Act, Clean Water Act, and Farmland Protection Policy Act.

d. Preliminary Alternatives: The alternatives analyzed in this feasibility investigation are a combination of structural and non-structural measures addressing the following objectives: The health of aquatic and upland ecosystems; the quantity, quality, timing, and distribution of water flows; agricultural, environmental, and urban water supply; the sustainability of economic and natural resources; flood protection; fish and wildlife; biological diversity; and natural habitat in southwest Florida. Alternatives were developed to address these objectives. These alternatives include a plan of no action and various combinations of structural and non-structural measures within the watersheds of the study area.

e. Issues: The EIS will analyze the following project objectives: Establish total freshwater inflows to coastal estuaries within project area to within 10% of the pre-development natural system flow quantity conditions; decrease loss of habitat connectivity for large mammals throughout the project area by 20%; reduce average annual total nitrogen loads to project area. In addition, the EIS will analyze: Impacts to aquatic and wetland habitats; water flows; hazardous and toxic waste; water quality; flood protection; the impacts of land acquisition on the tax base; aesthetics and recreation; fish and wildlife resources, including protected species; cultural resources; and other impacts identified through scoping, public involvement and interagency coordination.

f. Scoping: An initial scoping letter was sent to stakeholders in the southwest Florida region in April, 2006, as notification of the initiation of a Feasibility Study to address the water resource problems in southwest Florida. An additional scoping letter will be used to invite comments on alternatives and issues from Federal, State, and local agencies, affected Indian tribes, and other interested private organizations and individuals.

g. DEIS Preparation: The integrated Feasibility Report, including a DEIS, is currently estimated for publication in late 2009.

Dated: February 18, 2009.
Eric P. Summa,
Chief, Environmental Branch.

[FR Doc. E9-4199 Filed 2-26-09; 8:45 am]

BILLING CODE 3720-58-P